DEPARTMENT OF COMMERCE

National Oceanic and Atmospheric Administration

[I.D. 061306C]

U.S. Climate Change Science Program Synthesis and Assessment Product 2.1

AGENCY: National Oceanic and Atmospheric Administration (NOAA), Department of Commerce.

ACTION: Notice of availability and request for public comments.

SUMMARY: The National Oceanic and Atmospheric Administration publishes this notice to announce the availability of the U.S. Climate Change Science Program (CCSP) Synthesis and Assessment draft Product 2.1 addressing the CCSP Topic: “Scenarios of Greenhouse Gas Emissions and Atmospheric Concentrations and Review of Integrated Scenario Development and Application” for public comment. Following the public comment period, the lead authors will revise the Product, taking into consideration the submitted comments. The lead agency will then submit the revised Synthesis and Assessment Product to the CCSP Interagency Committee for approval and eventual release in accordance with the procedure described in the approved Prospectus for Synthesis and Assessment Product 2.1 that is posted on the CCSP Program Office web site: http://www.climatescience.gov/Library/sap/sap2-1/default.htm

DATES: Comments must be received by August 7, 2006.

ADDRESSES: The Synthesis and Assessment draft Product and detailed instructions for making comments on the draft Product are posted, along with the Prospectus, on the CCSP Program Office Web site at http://www.climatescience.gov/Library/sap/sap2-1/default.htm.

Please make certain that submitted comments are prepared in accordance with these instructions.

FOR FURTHER INFORMATION CONTACT: Vanessa Richardson,Climate Change Science Program Office, 1717 Pennsylvania Avenue NW., Suite 250, Washington, DC 20006, Telephone: (202) 419-3465.

SUPPLEMENTARY INFORMATION: The CCSP was established by the President in 2002 to coordinate and integrate scientific research on global and climate changes sponsored by 13 participating departments and agencies of the U.S. Government. The CCSP is charged with preparing information resources that support climate-related discussions and decisions, including scientific synthesis and assessment analyses that support evaluation of important policy issues. The Synthesis and Assessment draft Product addressing the CCSP Topic: “Scenarios of Greenhouse Gas Emissions and Atmospheric Concentrations and Review of Integrated Scenario Development and Application” is one of 21 such products that will be produced by the CCSP.

Dated: June 15, 2006.
Conrad C. Lautenbacher, Jr.,
Vice Admiral, U.S. Navy (Ret.), Under Secretary of Commerce for Oceans and Atmosphere.

[FR Doc. E6-9744 Filed 6-20-06; 8:45 am]

BILLING CODE 3510-12-S